DEPARTMENT OF TRANSPORTATION

Pipeline and Hazardous Materials Safety Administration

49 CFR Chapter I

[Docket No. PHMSA-2007-27329 (HM-233A)]

RIN 2137-AD84

Hazardous Materials: Conversion of Special Permits into Regulations of General Applicability

AGENCY: Pipeline and Hazardous Materials Safety Administration (PHMSA), DOT.

ACTION: Request for comments.

SUMMARY: PHMSA is in the process of reviewing widely-used special permits to identify those that have proven safety records and should be converted into the Hazardous Materials Regulations (HMR) as regulations of general applicability. A special permit is an authorization issued by PHMSA that allows a company or individual to package or ship a hazardous material in a manner that varies from the regulations provided an equivalent level of safety is maintained or that, in an emergency, is necessary to protect life or property. Incorporation of special permits into the HMR is a regulatory reform effort.

DATES: Written comments should be submitted on or before September 14, 2007.

ADDRESSES: The U.S. Department of Transportation has relocated to a new facility located at 1200 New Jersey Avenue, SE., Washington, DC 20590-0001. We have modified the delivery instructions below to accommodate this transition period. You may submit comments identified by the docket number (PHMSA-2007-27329 (HM-233A)) by any of the following methods:

• Web site: http://dms.dot.gov. Follow the instructions for submitting comments on the DOT electronic docket site.

• Fax: 1-202-493-2251.

• Mail: U.S. Department of Transportation, Docket Operations, M-30, West Building Ground Floor, Room W12-140, 1200 New Jersey Avenue, SE., Washington, DC 20590-0001. If sent by mail, comments are to be submitted in two copies. Persons wishing to receive confirmation of receipt of their comments should include a self-addressed stamped postcard.

• Hand Delivery: Docket Operations staff will accept deliveries at the new DOT facility in Room W12-140 on the Ground Floor of the West Building located at 1200 New Jersey Avenue, SE., Washington, DC 20590-0001. Hours at the new facility will remain 9 a.m. to 5 p.m., Monday through Friday, except Federal Holidays.

• Federal eRulemaking Portal: Go to http://www.regulations.gov. Follow the online instructions for submitting comments.

• Instructions: All submissions must include the agency name and docket number or Regulatory Identification Number (RIN) for this notice. Note that all comments received will be posted without change to http://dms.dot.gov including any personal information provided. Anyone is able to search the electronic form of all comments received into any of our dockets by the name of the individual submitting the comment (or signing the comment, if submitted on behalf of an association, business, labor union, etc.). You may review DOT's complete Privacy Act Statement in the Federal Register published on April 11, 2000 (Volume 65, Number 70, pages 19477-78), or at http://dms.dot.gov.

• Docket: For access to the docket to read background documents or comments received, go to http://dms.dot.gov at any time or to the Docket Management System (see ADDRESSES).

FOR FURTHER INFORMATION CONTACT: Eileen Edmonson, Office of Hazardous Materials Standards, (202) 366-8553, or Diane LaValle, Office of Hazardous Materials Special Permits and Approvals, (202) 366-4535, Pipeline and Hazardous Materials Safety Administration (PHMSA) 1200 New Jersey Avenue, SE., Washington, DC 20590-0001, or by e-mail to: Eileen.Edmonson@dot.gov, or Diane.LaValle@dot.gov.

SUPPLEMENTARY INFORMATION: The Pipeline and Hazardous Materials Safety Administration (PHMSA) (hereafter, “we” or “us”) is conducting a review to identify widely-used special permits (formerly called exemptions) with an established safety record which may be candidates for conversion into regulations of general applicability under the Hazardous Materials Regulations (HMR; 49 CFR parts 171-180). A special permit allows a packaging manufacturer, shipper, or carrier to deviate from requirements in the HMR provided the special permit achieves at least an equivalent level of safety as that provided by the HMR. The procedures for issuing, modifying, and terminating special permits are prescribed under subpart B of 49 CFR part 107 (§§ 107.101-107.127).

Special permits allow the industry to quickly implement new technologies and to evaluate new operational techniques that often enhance safety and increase productivity. Converting the provisions of special permits with an established safety record into regulations reduces paperwork burdens and facilitates commerce while maintaining an acceptable level of safety. As stated in the summary, this effort is also a regulatory reform and relief effort. The incorporation of the provisions in special permits into the HMR relieves many regulatory burdens on grantees. For example, grantees will no longer be required to maintain and provide copies of the special permits, mark packages and shipping documents with the permit number, and re-apply for authorization when a permit expires. Grantees will no longer be required to train individuals on the requirements of the special permits, but will still need to train employees on HMR compliance. Additionally, incorporation into the HMR provides wider access to the benefits of the provisions that otherwise would be accorded to a limited number of special permit grantees.

PHMSA has a long history of incorporating well-performing special permits into the HMR safely. One of our most recent examples includes incorporating provisions for the use of specialized high-integrity packagings to transport certain poisons without requiring them to be labeled with the POISON label.

Generally, a special permit is not a good candidate for conversion into regulations if it has not been in effect long enough to establish a clear safety record, is based on proprietary information for which the holder has requested confidential treatment, or its conversion would increase the complexity and length of the HMR for the benefit of a limited number of persons.

In this notice, PHMSA is inviting the public to recommend special permits for inclusion into the HMR. You should provide the special permit number and a rationale for its inclusion as a regulation of general applicability. We are particularly interested in the safety history of the special permit and the benefits that would result from its incorporation into the HMR, including reduced transportation costs, increased flexibility, advancement of new technologies, and the like.

We will review all recommendations from the public submitted in response to this notice as part of our ongoing review of outstanding special permits. After completion of this review, we will publish a notice of proposed rulemaking to propose conversion of the provisions of specific special permits into regulations of general applicability.

Issued in Washington, DC, on July 6, 2007, under authority delegated in 49 CFR part 106.
Theodore L. Willke,
Associate Administrator for Hazardous Materials Safety.

[FR Doc. E7-13579 Filed 7-13-07; 8:45 am]

BILLING CODE 4910-60-P